DEPARTMENT OF TRANSPORTATION

Federal Transit Administration

Notice To Rescind Notice of Intent To Prepare an Environmental Impact Statement (EIS) for Urban Rail in City of Austin, Travis County, Texas

AGENCY: Federal Transit Administration, DOT.

ACTION: Rescind Notice of Intent to Prepare an Environmental Impact Statement.

SUMMARY: The Federal Transit Administration (FTA), in cooperation with the Capital Metropolitan Transportation Authority (Cap Metro) and the City of Austin, is issuing this notice to advise the public that the Notice of Intent (NOI) to prepare an Environmental Impact Statement (EIS) for the proposed Urban Rail project in Austin, Texas is being rescinded.

FOR FURTHER INFORMATION CONTACT: Ms. Laura Wallace, Community Planner, Federal Transit Administration Region VI, 819 Taylor Street, Room 8A36, Fort Worth,TX 76102, phone 817-978-0550, email Laura.Wallace@dot.gov.

SUPPLEMENTARY INFORMATION: The FTA, as the lead federal agency, in cooperation with Cap Metro and the City of Austin published a NOI in the Federal Register on March 3, 2011 (Volume 76, Number 45) to prepare an EIS for the Urban Rail project to connect key activity centers within Central Austin—Mueller Transit-Oriented Redevelopment, the University of Texas at Austin campus, the State Capitol Complex, the central business district, and Austin-Bergstrom International Airport with each other and to emerging regional transportation network nodes for commuter rail, regional rail, and rapid bus in Austin, Travis County, Texas.

Since that time, FTA and the City of Austin have decided to re-evaluate the Urban Rail project in terms of scope and alternatives beyond what was originally considered. Therefore, the FTA has determined that the NOI for the EIS will be rescinded.

Comments and questions concerning the proposed action should be directed to FTA at the address provided above.

Robert C. Patrick,
Regional Administrator, Federal Transit Administration, Region VI.

[FR Doc. 2014-15353 Filed 6-30-14; 8:45 am]

BILLING CODE 4910-57-P